DEPARTMENT OF COMMERCE

International Trade Administration

[A-201-817]

Oil Country Tubular Goods From Mexico: Rescission of Antidumping Duty Administrative Review

AGENCY: Import Administration, International Trade Administration, Department of Commerce.

SUMMARY: In response to requests from Hylsa S.A. de C.V (“Hylsa”), a Mexican manufacturer of oil country tubular goods (“OCTG”), and United States Steel Corporation (“petitioner”), the Department of Commerce (“the Department”) initiated an administrative review of the antidumping duty order on OCTG from Mexico. See Initiation of Antidumping and Countervailing Duty Administrative Reviews, 71 FR 57465 (September 29, 2006). This administrative review covered the period August 1, 2005, through July 31, 2006. We are now rescinding this review due to requests by parties to withdraw from the review.

EFFECTIVE DATE: August 20, 2007.

FOR FURTHER INFORMATION CONTACT: John Drury or Angelica Mendoza, AD/CVD Operations, Office 7, Import Administration, International Trade Administration, U.S. Department of Commerce, 14th Street and Constitution Avenue, NW, Room 7866, Washington, DC 20230; telephone: (202) 482-0195 or (202) 482-3019, respectively.

SUPPLEMENTARY INFORMATION:

Background

The Department published an antidumping duty order on OCTG from Mexico on August 11, 1995. See Antidumping Duty Order: Oil Country Tubular Goods from Mexico, 60 FR 41056 (August 11, 1995). The Department published a notice of “Opportunity to Request an Administrative Review” of the antidumping duty order for the period August 1, 2005, through July 31, 2006, on August 1, 2006. See Antidumping or Countervailing Duty Order, Finding, or Suspended Investigation; Opportunity To Request Administrative Review, 71 FR 43441 (August 1, 2006). Hylsa requested that the Department conduct an administrative review of its sales subject to the antidumping duty order on OCTG from Mexico on August 31, 2006. In addition, petitioner United States Steel Corporation (“U.S. Steel”) requested that the Department conduct an administrative review of sales of merchandise covered by the order by Hylsa and Tubos de Acero de Mexico, S.A. (“TAMSA”) on August 31, 2006. In response to the requests from Hylsa and U.S. Steel, the Department published the initiation of the antidumping duty administrative review on OCTG from Mexico on September 29, 2006. See Initiation of Antidumping and Countervailing Duty Administrative Reviews, 71 FR 57465 (September 29, 2006).

The Department issued questionnaires to both Hylsa and TAMSA on October 11, 2006. The Department received responses from Hylsa on November 21, 2006, and December 20, 2007. The Department issued a supplemental questionnaire on February 16, 2007. Hylsa submitted the supplemental response on March 16, 2007.

On November 1, 2006, TAMSA submitted a letter to the Department stating that it had no shipments of OCTG to the United States during the period of review. The Department issued a “No Shipment Inquiry” to U.S. Customs and Border Protection (“CBP”) on February 5, 2007, to confirm that there were no shipments or entries of OCTG from Mexico exported by TAMSA during the period of review (“POR”) of the instant administrative review. The Department requested further information from CBP on February 28, 2007, to which CBP responded on April 5, 2007. The Department placed this information on the record of this proceeding on May 15, 2007. See Memorandum to the File from John Drury, Senior Case Analyst - Receipt of Documents from Customs and Border Protection Regarding Entries of Oil Country Tubular Goods from Mexico.

The Department extended the time limits for the preliminary results of this review on May 3, 2007. See Oil Country Tubular Goods from Mexico: Extension of Time Limits for the Preliminary Results of Antidumping Duty Administrative Review, 72 FR 24562 (May 3, 2007).

On June 22, 2007, the Department revoked the antidumping duty order on OCTG from Mexico. See Oil Country Tubular Goods from Argentina, Italy, Japan, Korea, and Mexico; Revocation of Antidumping Duty Orders Pursuant to Second Five-year (Sunset) Reviews, 72 FR 34442 (June 22, 2007).

U.S. Steel withdrew its request for review with respect to Hylsa on July 13, 2007, and withdrew its request for review with respect to TAMSA on July 24, 2007. Hylsa withdrew its request for review on July 31, 2007.

Rescission of the Administrative Review

Pursuant to 19 CFR § 351.213(d)(3), the Secretary may rescind an administrative review, in whole or in part, if the Secretary concludes that there were no entries, exports, or sales of the subject merchandise, as the case may be, during the period covered by the review. Also, pursuant to 19 CFR § 351.213(d)(1), the Secretary will rescind an administrative review under this section, in whole or in part, if a party that requested a review withdraws the request within 90 days of the date of publication of notice of initiation of the requested review. The Secretary may extend this time limit if the Secretary decides that it is reasonable to do so. See 19 CFR § 351.213(d)(1). U.S. Steel's and Hylsa's requests are past the 90-day time limit; however, we find that it is reasonable to extend this deadline for the following reasons: (1) the Department has revoked this antidumping duty order, and (2) all parties that requested reviews have withdrawn their requests and no party has objected to the termination of the review. Therefore, the Department determines that the continuation of the administrative review is not necessary. Therefore, in response to U.S. Steel's and Hylsa's withdrawals of their requests for administrative reviews as well as the fact that there is no evidence that TAMSA had any shipments of subject merchandise during the POR pursuant to 19 CFR § 351.213(d)(1) and (d)(3), the Department hereby rescinds the administrative review of the antidumping duty order on OCTG from Mexico for the period August 1, 2005, through July 31, 2006. The Department intends to issue assessment instructions to CBP 41 days after the date of publication of this rescission of administrative review. See section 356.8(a) of the Department's regulations.

This notice serves as a reminder to parties subject to administrative protective order (“APO”) of their responsibility concerning the disposition of proprietary information disclosed under APO in accordance with 19 CFR § 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 CFR § 351.213(d)(4).

Dated: August 13, 2007.
Gary Taverman,
Acting Deputy Assistant Secretary for Import Administration.

[FR Doc. E7-16325 Filed 8-17-07; 8:45 am]

BILLING CODE 3510-DS-S